DEPARTMENT OF TRANSPORTATION

Office of Small and Disadvantaged Business Utilization; Solicitation of Applications for Regional Small Business Transportation Resource Centers (SBTRCs) Fiscal Year (FY) 2007, Grant Opportunity

AGENCY: Office of Small and Disadvantaged Business Utilization (OSDBU), DOT.

ACTION: Notice.

SUMMARY: OSDBU announces that it has published an opportunity to apply for the FY 2007 Small Business Transportation Business Resource Center funding on the grants.gov Web site (http://www.grants.gov). Section 4134 of the Safe, Accountable, Flexible, Efficient Transportation Equity Act: OSDBU is responsible for the implementation and execution of the Department of Transportation (DOT) activities on behalf of small businesses in accordance with Section 8, 15 and 31 of the Small Business Act (SBA), as amended. The OSDBU also administers the provisions of Title 49, the Minority Resource Center (MRC) which includes the duties of advocacy, outreach and financial services on behalf of small and disadvantaged business and those certified under CFR 49 parts 23 and or 26 as Disadvantaged Business Enterprises (DBE). This request solicits competitive proposals from business centered community-based organizations, transportation-related trade associations, colleges and universities, community colleges or chambers of commerce for participation in OSDBU's Small Business Transportation Resource Centers (SBTRC) under the Minority Resource Center (MRC) program. OSDBU will enter into Cooperative Agreements with these organizations to outreach to the small business community in their designated region and provide financial and technical assistance, business training programs such as, business assessment, management training, counseling, technical assistance, marketing and outreach, and the dissemination of information, to encourage and assist small businesses to become better prepared to compete for, obtain, and manage DOT funded transportation-related contracts and subcontracts at the federal, state and local levels. Eligible applicants must be registered with the Internal Revenue Service as 501 C(6) or 501 C(3) tax-exempt organizations.

To apply for funding, applicants must be registered with grants.gov. Registration with grants.gov may take two to five days before the system will allow you to apply for grants using the grants.gov Web site http://www.grants.gov/applicants/get_registered.jsp. Submit application in accordance with the instructions provided. Applications for grant funding must be submitted electronically to OSDBU through the grants.gov Web site.

DATES: Proposals must be submitted to Grants.gov by March 9, 2007, 4 p.m. Eastern Standard Time. Proposals received after the deadline will be considered non-responsive and will not be reviewed.

FOR FURTHER INFORMATION CONTACT: Mr. Art Jackson, U.S. Department of Transportation, Office of Small and Disadvantaged Business Utilization, 400 7th Street, SW., Room 9414, Washington, DC 20590, Tel. 202-366-1930 or 800-532-1169. Office hours are from 9 a.m. to 5 p.m., EST., Monday through Friday, except Federal holidays.

Issued on: January 25, 2007.
Denise Rodriguez-Lopez,
Director, Office of Small and Disadvantaged Business Utilization (OSDBU).

[FR Doc. E7-1526 Filed 1-30-07; 8:45 am]

BILLING CODE 4910-9X-P